NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: 10 CFR Part 4, “Nondiscrimination in Federally Assisted Commission Programs.”

3. The form number if applicable: None.

4. How often the collection is required: Occasionally.

5. Who is required or asked to report: Recipients of Federal Financial Assistance (Agreement States) provided by the NRC.

6. An estimate of the number of responses: 128.

7. The number of annual respondents: Approximately 32.

8. An estimate of the total number of hours needed annually to complete the requirement or request: 352 hours (96 hours reporting and 256 hours recordkeeping) or approximately 3 hours per response.

9. An indication of whether section 3507(d), Pub. L. 104-13 applies: Not applicable.

10. Abstract: Recipients of NRC financial assistance provide data to demonstrate assurance to NRC that they are in compliance with nondiscrimination regulations and policies.

A copy of the final supporting statement may be viewed free of charge at the NRC Public Document Room, One White Flint North, 11555 Rockville Pike, Room O-1F23, Rockville, MD 20852. OMB clearance requests are available at the NRC worldwide web site: http://www.nrc.gov/NRC/PUBLIC/OMB/index.html. The document will be available on the NRC home page site for 60 days after the signature date of this notice.

Comments and questions should be directed to the OMB reviewer listed below by June 19, 2001. Comments received after this date will be considered if it is practical to do so, but assurance of consideration cannot be given to comments received after this date.

OMB Reviewer: Amy Farrell, Office of Information and Regulatory Affairs (3150-0053), NEOB-10202, Office of Management and Budget, Washington, DC 20503.

Comments can also be submitted by telephone at (202) 395-7318.

The NRC Clearance Officer is Brenda Jo. Shelton, 301-415-7233.

Dated at Rockville, Maryland, this 12th day of April 2001.
For the Nuclear Regulatory Commission.
Brenda Jo. Shelton,
NRC Clearance Officer, Office of the Chief Information Officer.

[FR Doc. 01-9728 Filed 4-19-01; 8:45 am]

BILLING CODE 7590-01-P